DEPARTMENT OF LABOR

Employment and Training Administration

[TA-W-37, 542, 542A, 542B, 542C]

GPM, Bartlesville, OK and Operating at Various Locations in the States; Amended Negative Determination Regarding Eligibility To Apply for Worker Adjustment Assistance

In accordance with section 223 of the Trade Act of 1974 (19 U.S.C. 2273) the Department of Labor issued a Negative Determination Regarding Eligibility to Apply for Worker adjustment Assistance on April 24, 2000, applicable to workers of GPM, Bartlesville, Oklahoma. The notice was published in the Federal Register on May 11, 2000 (65 FR 30442).

At the request of the petitioner, the Department reviewed the negative determination for workers of the subject firm. The workers of the subject firm are engaged in employment related to gathering, transporting and marketing natural gas. Review of the investigation shows that the Department's negative determination inadvertently excluded the workers of the subject firm's other Oklahoma locations, in addition to the Texas and New Mexico locations of GPM.

It was the Department's intent to issue the negative determination for all workers of the subject firm cited in the petition form. The negative determination is being amended to expand the denial to workers of GPM at various locations in Oklahoma (except Bartlesville), Texas and New Mexico.

The amended notice applicable to TA-W-37,542 is hereby issued as follows:

All workers of GPM, Bartlesville, Oklahoma (TA-W-37,542), and operating at various locations in the States of Oklahoma, except Bartlesville (TA-W-37,542A), Texas (TA-W-37,542B), and New Mexico (TA-W-37,542C) are denied eligibility to apply for adjustment assistance under Section 223 of the Trade Act of 1974.

Signed at Washington, DC, this 31st day of May, 2000.
Grant D. Beale,
Program Manager, Division of Trade Adjustment Assistance.

[FR Doc. 00-15144 Filed 6-14-00; 8:45 am]

BILLING CODE 4510-30-M